DEPARTMENT OF HOMELAND SECURITY

Coast Guard

33 CFR Part 165

[Docket No. USCG-2025-1067]

Safety Zone; Chicago River (Main Branch), Chicago, IL

AGENCY: Coast Guard, DHS.

ACTION: Notification of enforcement of regulation.

SUMMARY: The Coast Guard will enforce a segment of the Safety Zone, Brandon Road Lock and Dam to Lake Michigan including Des Plaines River, Chicago Sanitary and Ship Canal, Chicago River, and Calumet-Saganashkee Channel, Chicago, IL, on all waters of the Chicago River (Main Branch) for a fireworks display from December 31, 2025 into January 1, 2026. This action is intended to protect personnel, vessels, and the marine environment from potential hazards created by potential fall-out from a fireworks display. During the enforcement period listed below, entry into, transiting, or anchoring within the safety zone is prohibited unless authorized by the Captain of the Port Lake Michigan or a designated representative.

DATES: The regulation in 33 CFR 165.930 will be enforced for the Chicago River (Main Branch) regulated area in § 165.930(a)(4), from 11:30 p.m. on December 31, 2025, through 12:15 a.m. on January 1, 2026.

FOR FURTHER INFORMATION CONTACT: If you have questions about this notice of enforcement, call or email Lieutenant Kyle Goetz, Marine Safety Unit Chicago, U.S. Coast Guard; telephone 630-986-2155, email: D09-SMB-MSUChicago-WWM@uscg.mil.

SUPPLEMENTARY INFORMATION: The Coast Guard will enforce a safety zone regulation in 33 CFR 165.930 for a fireworks display from 11:30 p.m. on December 31, 2025, through 12:15 a.m. on January 1, 2026. This regulation specifies the location of the regulated area for this event—the Chicago River (Main Branch) in § 165.930(a)(4). All vessels must obtain permission from the Captain of the Port (COTP) Lake Michigan, or designated on-scene representative, for entry into, transiting, mooring, laying up, or anchoring within the safety zone during the enforcement time listed in this notice of enforcement. Vessels and persons granted permission to enter the safety zone must obey all lawful orders or directions of the COTP Lake Michigan or designated representative. Upon being hailed by siren, radio, flashing light or other means, the operator of a vessel must proceed as directed.

In addition to this notification of enforcement in the Federal Register, the Coast Guard will provide the maritime community with notification of this enforcement period via Broadcast Notice to Mariners. The COTP Lake Michigan may be reached by contacting the Coast Guard Sector Lake Michigan Command Center at (833) 900-2247. An on-scene designated representative may be reached via VHF-FM Channel 16.

R.N. Macon,
Captain, U.S. Coast Guard, Captain of the Port, Lake Michigan.

[FR Doc. 2025-23263 Filed 12-17-25; 8:45 am]

BILLING CODE 9110-04-P